DEPARTMENT OF JUSTICE

Antitrust Division

Notice Pursuant to the National Cooperative Research and Production Act of 1993—Southwest Research Institute: Joint Industry Project for Fluid Properties Meter Development and Support

Notice is hereby given that, on November 30, 2004, pursuant to section 6(a) of the National Cooperative Research and Production Act of 1993, 15 U.S.C. 4301 et seq. (“the Act”), the Southwest Research Institute: Joint Industry Project for Fluid Properties Meter Development and Support (“SwRI: Fluid Properties Meter”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Columbia Gas Transmission, Charleston, WV; ConocoPhillips Company, Houston, TX; Duke Energy Gas Transmission Corporation, Houston, TX; Panhandle Energy, Houston, TX; Questar Gas Company, Salt Lake City, UT; Tennessee Gas Pipeline Company, Houston, TX; and Transcanada Pipelines Limited, Calgary, Alberta, CANADA. The general area of SwRI: Fluid Properties Meter's planned activity is to advance the development of the Fluid Properties meter from an experimental, proof-of-concept prototype to a production-ready pilot unit. The Fluid Properties meter, developed by SwRI: Fluid Properties Meter, is used to determine properties of natural gas, such as density, molecular weight and calorific value. The program will include the development of requirements and specifications for the system, subsystems and components, and the transfer of knowledge required to implement the fluid properties meter algorithm. The program will also include the actual development and testing of the Fluid Properties meter. Several reviews, such as a system requirements review, system functional review, preliminary design review, critical design review, and test readiness review will be performed during this project.

Dorothy B. Fountain,
Deputy Director of Operations, Antitrust Division.

[FR Doc. 05-1986 Filed 2-1-05; 8:45 am]

BILLING CODE 4410-11-M